DEPARTMENT OF COMMERCE

National Oceanic and Atmospheric Administration

RIN 0648-XG634

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ).

DATES: The meeting will be held on Tuesday, December 4, 2018 through Thursday, December 6, 2018, beginning at 9 a.m. on December 4 and 8:30 a.m. on December 5 and 6.

ADDRESSES: Meeting address: The meeting will be held at Hotel Viking, One Bellevue Avenue, Newport, RI 02840; telephone: (508) 747-4900; online at www.hotel1620.com.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, December 4, 2018

After introductions and brief announcements, the meeting will begin with reports from the Council Chairman and Executive Director, NMFS's Regional Administrator for the Greater Atlantic Regional Fisheries Office (GARFO), liaisons from the Northeast Fisheries Science Center (NEFSC) and Mid-Atlantic Fishery Management Council, representatives from NOAA General Counsel and NOAA's Office of Law Enforcement, and staff from the Atlantic States Marine Fisheries Commission (ASMFC), the U.S. Coast Guard, and the Stellwagen Bank National Marine Sanctuary. The Council then will hear a report summarizing the mid-October meeting of the Advisory Committee to the U.S. Section of the International Commission for the Conservation of Atlantic Tunas. This will be followed by a brief update on the Council's Research Set-Aside Program Review, which is ongoing. The Small-Mesh Multispecies (Whiting) Committee Report will be next. The Council will take final action on Amendment 22 to the Northeast Multispecies Fishery Management Plan (FMP), also known as the “Whiting Amendment.” The Council first will review public hearing comments on the amendment and then decide whether or not to adopt a limited access program and related measures for small-mesh multispecies.

Following the lunch break, the Council will hear from its Enforcement Committee, which will provide recommendations and enforcement concerns related to: (1) The Atlantic Large Whale Take Reduction Plan; (2) Atlantic cod discards; (3) the Codend Compliance Assistance Program; (4) the OMEGA Mesh Gauge; and (5) other issues. The Coast Guard will provide a short demonstration on use of the OMEGA gauge as part of this report. The Habitat Committee will be up next. During this segment, the Council will take final action on its Clam Dredge Framework, which contains alternatives to consider continued surfclam fishery access and potential mussel dredge access to the Great South Channel Habitat Management Area. As part of this report, the Enforcement Committee will present its recommendations on the framework alternatives. Following the framework action, the Council will receive an update on offshore energy activities and consult on any timely issues. The Council then will adjourn for the day. Shortly following the conclusion of Council business, NMFS staff will hold a feedback session in the Council's meeting room to solicit suggestions for improving communication and utilization of results achieved by the Saltonstall-Kennedy (S-K) Grant Program.

Wednesday, December 5, 2018

The Council will begin the day with a NMFS presentation on the S-K Grant Program, which will include: An overview of the program; information on priority setting, funding, and proposal reviews; and an explanation of the decision-making process for issuing awards. The Council will have an opportunity to provide feedback on the S-K program. Next, the Council will receive a presentation on a project to measure the ecological, social, economic, and governance effects of catch shares in the groundfish fishery. The presentation will include a short demonstration on the use of 14 neutral, scientific indicators that can be used to measure the effects of catch shares. Then, the Council will receive a report on the November 19, 2018 meeting of the Northeast Trawl Advisory Panel Working Group. The Groundfish Committee Report will follow. The Council will take final action on Framework Adjustment 58 to the Northeast Multispecies FMP, which includes: (1) 2019 total allowable catches for shared U.S./Canada stocks of Eastern Georges Bank cod, Eastern Georges Bank haddock, and Georges Bank yellowtail flounder; (2) rebuilding plans for Georges Bank winter flounder, Southern New England/Mid-Atlantic yellowtail flounder, witch flounder, Gulf of Maine/Georges Bank northern windowpane flounder, and ocean pout; (3) minimum size exemptions for vessels fishing in waters regulated by the Northwest Atlantic Fisheries Organization (NAFO); and (4) extension of a scallop fishery provision for triggering Georges Bank yellowtail flounder accountability measures. The Groundfish Committee Report also will include: An update on Groundfish Monitoring Amendment 23; and an update on work being conducted by the Fishery Data for Stock Assessment Working Group. Next, the Scientific and Statistical Committee (SSC) will provide the Council with 2019-2020 overfishing limit (OFL) and acceptable biological catch (ABC) recommendations for Atlantic sea scallops and 2019-2021 OFL and ABC recommendations for Atlantic herring.

After the lunch break, members of the public will have the opportunity to speak during an open comment period on issues that relate to Council business but are not included on the published agenda for this meeting. The Council asks the public to limit remarks to 3-5 minutes. Next, the Council will hear from its Scallop Committee and take final action on Framework Adjustment 30 to the Atlantic Sea Scallop FMP. The framework includes specifications for fishing year 2019, default specifications for 2020, and several standard default measures. Then, if available, the Council will review, discuss, and comment on NMFS's proposed rule to set Atlantic herring catch limits and other specifications for the 2019 fishing year. After that, the Council will receive a report on the Northeast Regional Coordinating Council's decisions for revising the stock assessment process and assessment scheduling. The Council then will adjourn for the day. Following the conclusion of Council business, NMFS staff will hold a second feedback session to solicit suggestions for improving communication and utilization of results achieved by the S-K Grant Program.

Thursday, December 6, 2018

The third day of the meeting will begin with a presentation on the Council's work on Ecosystem-Based Fishery Management (EBFM). This will include two components: (1) A progress report on efforts to develop an example Fishery Ecosystem Plan (eFEP) framework for Georges Bank; and (2) a brief introduction into how Management Strategy Evaluation (MSE) may be used for EBFM. Next, the Council will take final action on 2019-2021 fishing year specifications for spiny dogfish. Then, the Council will receive a report on the Standardized Bycatch Reporting Methodology three-year review. Following this discussion, the Council will receive two whale-related reports, which will cover: (a) The October meeting of the Atlantic Large Whale Take Reduction Team; and (b) the November meeting of the Ropeless Consortium. Next, the Council will receive a presentation on GARFO's Fishery Dependent Data Initiative. NMFS annually reports to the Council on efforts by GARFO and the Northeast Fisheries Science Center to modernize fishery dependent data collection.

After the lunch break, the Council will discuss and take final action on 2019 priorities for all committees and Council responsibilities. After that, the Council will discuss and make a decision on the future of its Research Steering Committee. The Council will close out the meeting with “other business.”

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

These meetings are physically accessible to people with disabilities. Requests for sign language interpretation or other auxiliary aids should be directed to Thomas A. Nies (see ADDRESSES) at least 5 days prior to the meeting date.

Dated: November 15, 2018.
Tracey L. Thompson,
Acting Deputy Director, Office of Sustainable Fisheries, National Marine Fisheries Service.

[FR Doc. 2018-25307 Filed 11-19-18; 8:45 am]

BILLING CODE 3510-22-P